RECOVERY ACCOUNTABILITY AND TRANSPARENCY BOARD

[Doc. No. 11-001]

Agenda and Notice Meeting of the Recovery Independent Advisory Panel; Correction

AGENCY: Recovery Accountability and Transparency Board.

ACTION: Notice; correction.

SUMMARY: The Recovery Accountability and Transparency Board (Board) published a document in the Federal Register of January 10, 2011, concerning agenda and notice of meeting of the Recovery Independent Advisory Panel (RIAP). The document contained incorrect addresses.

FOR FURTHER INFORMATION CONTACT: Glen Walker, Executive Director, Recovery Independent Advisory Panel, 1717 Pennsylvania Avenue, NW., Suite 700, Washington, DC 20006; Telephone 202-254-7900.

Correction

In the Federal Register of January 10, 2011, Vol. 76, No. 6, on page 1472, in the first column, correct the ADDRESSES caption to read: Miller Building, Conference Rooms West 1 & 2, 11 Bladen Street, Annapolis, MD.

Dated: January 12, 2011.
Ivan J. Flores,
Paralegal Specialist, Recovery Accountability and Transparency Board.

[FR Doc. 2011-1109 Filed 1-19-11; 8:45 am]

BILLING CODE 6821-15-P